DEPARTMENT OF JUSTICE

Notice of Lodging of Consent Decree Under the Clean Air Act

Notice is hereby given that on March 4, 2008, a proposed Consent Decree in United States v. Riverside Cement Company, Civil Action No. CV 08-01284 ABC (JCRx), was lodged with the United States District Court for the Central District of California.

The proposed Consent Decree resolves the United States' claims against Riverside Cement Company (“RCC”) under Section 113(b) of the Clean Air Act (“CAA”), 42 U.S.C. 7413(b), for alleged violations of the Clean Air Act and the federally approved California State Implementation Plan (“SIP”), including Mohave Desert Air Quality Management District Rule 1161 (“Rule 1161”), at a portland cement manufacturing facility owned and operated by RCC in Oro Grande, California (“Facility”). The Consent Decree requires RCC to pay a civil penalty of $394,000, plus interest accruing thereon from the date of lodging, and requires RCC to shut down its older cement kilns (kilns 1-7) by no later than August 31, 2008 or 120 days after its new cement kiln reaches 90 percent of its operating capacity, whichever is earlier; to comply with enhanced baghouse inspection requirements until the older kilns are shut down; and to comply with the Portland Cement NESHAP, Rule 1161, and its Title V operating permit.

The Department of Justice will receive, for a period of thirty (30) days from the date of this publication, comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Riverside Cement Company., D.J. Ref. 90-5-2-1-09021.

The proposed Consent Decree may be examined at the Office of the United States Attorney, 300 North Los Angeles Street, Los Angeles, CA 90012, and at U.S. EPA Region IX, 75 Hawthorne Street, San Francisco, CA 94105. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. When requesting a copy from the Consent Decree Library, please enclose a check in the amount of $7.50 for the Consent Decree (25 cents per page reproduction cost), payable to the U.S. Treasury or, if by e-mail or fax, forward a check in that amount to the Consent Decree Library at the stated address.

Henry S. Friedman,
Environmental Enforcement Section, Environment and Natural Resources Division.

[FR Doc. E8-4884 Filed 3-11-08; 8:45 am]

BILLING CODE 4410-15-P